DEPARTMENT OF STATE

[Public Notice: 12126]

The Advisory Committee on Responsible Business Conduct

ACTION: Notice of intent to establish an advisory committee.

The Department of State announces an intent to establish the Advisory Committee on Responsible Business Conduct (“the Committee”), pursuant to the Federal Advisory Committee Act and the Department of State Basic Authorities Act, codified in 22 U.S.C. 2651.

Nature and Purpose: The Committee will provide advice on opportunities and challenges in business and human rights as well as responsible business conduct issues more broadly, including performance of the following functions:

(a) advice and recommendations on implementing the National Action Plan on Responsible Business Conduct.

(b) advice and recommendations on timely business and human rights and responsible business conduct issues more broadly, which could include subcommittees focused on a wide range of issues, e.g., the National Contact Point.

(c) advice and recommendations on the Department of State's role in advancing business and human rights and responsible business conduct more broadly.

Other Information: It is anticipated that the Committee will meet at least once a year, and such other times and places are required to fulfill the objectives of the Committee. The Department of State affirms that the advisory committee is necessary and in the public interest.

FOR FURTHER INFORMATION CONTACT: Leslie Taylor, Senior Foreign Affairs Officer, Office of Multilateral and Global Affairs, Bureau of Democracy, Human Rights and Labor, TaylorLB2@state.gov, 202-663-2652.

(Authority: 5 U.S.C. 1009 and 22 U.S.C. 2651a.)

Leslie Taylor,
Senior Foreign Affairs Officer, Office of Multilateral and Global Affairs, Department of State.

[FR Doc. 2023-15250 Filed 7-18-23; 8:45 am]

BILLING CODE 4710-18-P